DEPARTMENT OF HOMELAND SECURITY

Coast Guard

[CGD08-05-053]

Implementation of Sector Houston-Galveston

AGENCY: Coast Guard, DHS.

ACTION: Notice of organizational change.

SUMMARY: The Coast Guard announces the stand-up of Sector Houston-Galveston. Sector Houston-Galveston is an internal reorganization to combine Group Galveston, Base Galveston, Vessel Traffic Service Houston-Galveston, Marine Safety Office Houston-Galveston including Marine Safety Unit Galveston and Marine Safety Office Port Arthur including Marine Safety Unit Lake Charles into one command. The Coast Guard has established a continuity of operations order whereby all previous practices and procedures will remain in effect until superseded by an authorized Coast Guard official and/or document.

DATES: This organizational change is effective December 15, 2005.

ADDRESSES: Documents indicated in this preamble as being available in the docket are part of docket CGD08-05-053 and are available for inspection or copying at Commander (rpl), Eighth Coast Guard District, 500 Poydras Street, New Orleans, Louisiana 70130-3310 between 7:30 a.m. and 4:30 p.m., Monday through Friday, except Federal holidays.

FOR FURTHER INFORMATION CONTACT: Lieutenant Michael Roschel, Eighth District Planning Office at 504-589-6293.

SUPPLEMENTARY INFORMATION:

Discussion of Notice

Sector Houston-Galveston is located at 9640 Clinton Dr., Houston, TX 77029 and contains a single Command Center. Sector Houston-Galveston is composed of a Response Department, Prevention Department, and Logistics Department. All existing missions and functions performed by Group Galveston, Base Galveston, Vessel Traffic Service Houston-Galveston, Marine Safety Office Houston-Galveston including Marine Safety Unit Galveston and Marine Safety Office Port Arthur including Marine Safety Unit Lake Charles will be performed by Sector Houston-Galveston. Effective December 15, 2005, Group Galveston, Base Galveston, Vessel Traffic Service Houston-Galveston, Marine Safety Office Houston-Galveston and Marine Safety Office Port Arthur will no longer exist as organizational entities. However, Marine Safety Office Port Arthur is renamed a Marine Safety Unit and will report directly to the Sector Houston-Galveston Commander as will Marine Safety Unit Galveston. Marine Safety Unit Lake Charles will report directly to MSU Port Arthur. There will also be a Sector Field Office retained at Galveston to provide remote support to Sector sub-units and will report directly to the logistics department. Sector Houston-Galveston contains one sub-zone, which is the Port Arthur Sub-Zone; however, Sector Houston-Galveston is responsible for all Coast Guard missions within this sub-zone.

Houston-Galveston Sector's primary zone starts at the intersection of the sea and 94°23′ W. longitude; thence proceeds north along 94°23′ W. longitude to 30°00′ N. latitude; thence west along 30°00′ N. latitude to the east bank of the Trinity River; thence northerly along the east bank of the Trinity River; thence northwesterly along the eastern shore of Lake Livingston; thence northwesterly along the east bank of the Trinity River to the southern boundary of Dallas County, Texas; thence westerly along the southern boundary of Dallas County, Texas to 97°00′ W. longitude; thence north along 97°00′ W. longitude to the Texas-Oklahoma boundary; thence northwesterly along the Texas-Oklahoma boundary; thence north along the New Mexico-Oklahoma boundary; thence west along the New Mexico-Colorado boundary; thence south along the New Mexico-Arizona boundary; thence easterly along the southern boundary of New Mexico to the southeast corner of New Mexico at 32°00′ N. latitude; thence southeasterly to 29°18′ N. latitude, 96°07′ W. longitude on the east bank of the Colorado River; thence southerly along the east bank of the Colorado River to the sea; thence along a line bearing 140° to the outermost extent of the EEZ; thence easterly along the outermost extent of the EEZ to 93°25′ W. longitude; thence north to 27°49′ N. latitude, 93°25′ W. longitude; thence northwesterly to 29°30′ N. latitude, 93°48′ W. longitude; thence westward following a line 10.3 nautical miles from the coast to 29°24′ N. latitude, 94°20′ W. longitude; thence northwesterly to the coast at 94°23′ W. longitude.

The Port Arthur Sub-Zone Starts at the intersection of the sea and 92°23′ W. longitude; thence proceeds north along 92°23′ W. longitude to the northern boundary of Acadia Parish, thence westerly along the northern boundary of Acadia Parish; thence northwesterly along the northeastern boundaries of Allen, Vernon, Sabine, and De Soto Parishes; thence westerly along the northern boundary of De Soto Parish to the Louisiana-Texas boundary; thence northerly along the Louisiana-Texas boundary to the Texas-Arkansas-Louisiana boundaries; thence westerly along the Texas-Arkansas boundary and the Texas-Oklahoma boundary to 97°00′ W. longitude; thence south along 97°00′ W. longitude to the southern boundary of Dallas County, Texas; thence easterly along the southern boundary of Dallas County, Texas, to the east bank of the Trinity River; thence southeasterly along the east bank of the Trinity River; thence southeasterly along the east shore of Lake Livingston; thence southerly along the east bank of the Trinity River to 30°00′ N. latitude, 93°55′ W. longitude; thence east along 30°00′ N. latitude to 94°23′ W. longitude; thence south along 94°23′ W. longitude to the sea; thence seaward to 29°24′ N. latitude, 94°20′ W. longitude; thence easterly following a line 10.3 nautical miles from the coast to 29°30′ N. latitude, 93°48′ W. longitude; thence southeasterly to 27°49′ N. latitude, 93°25′ W. longitude; thence south along 93°25′ W. longitude to the outermost extent of the EEZ; thence east along the outermost extent of the EEZ to 92°23′ W. longitude; thence north along 92°23′ W. longitude to the point or origin.

The boundaries of Sector Houston-Galveston will be modified in the future upon the stand-up of adjoining sectors. Notice will be published in the Federal Register.

The Sector Houston-Galveston Commander is vested with all the rights, responsibilities, duties, and authority of a Group Commander and Commanding Officer Marine Safety Office, as provided for in Coast Guard regulations, with the exception of specific authorities that shall be retained by MSU Port Arthur. Sector Houston-Galveston Commander is the successor in command to the Commanding Officers of Group Galveston, Base Galveston, Vessel Traffic Service Houston-Galveston, Marine Safety Office Houston-Galveston including Marine Safety Unit Galveston and Marine Safety Office Port Arthur including Marine Safety Unit Lake Charles. The Sector Houston-Galveston Commander is designated for the entire Sector as: (a) Federal On Scene Coordinator (FOSC), consistent with the National Contingency Plan; and (b) Search and Rescue Mission Coordinator (SMC). Also, the Sector Houston-Galveston Commander is designated for the entire Sector as: (a) Captain of the Port (COTP); (b) Federal Maritime Security Coordinator (FMSC); and (d) Officer in Charge of Marine Inspection (OCMI). The Deputy Sector Commander is designated alternate COTP, FMSC, FOSC, SMC and Acting OCMI.

The Commanding Officer, Marine Safety Unit Port Arthur is designated for the entire MSU Port Arthur Sub-Zone as: (a) Captain of the Port (COTP); (b) Federal Maritime Security Coordinator (FMSC); (c) Federal On Scene Coordinator (FOSC) consistent with the National Contingency Plan; and (d) Officer in Charge of Marine Inspection (OCMI). The Executive Officer, Marine Safety Unit Port Arthur is designated alternate COTP, FMSC, FOSC, and Acting OCMI.

A continuity of operations order has been issued ensuring that all previous Group Galveston, Base Galveston, Vessel Traffic Service Houston-Galveston, Marine Safety Office Houston-Galveston including Marine Safety Unit Galveston and Marine Safety Office Port Arthur including Marine Safety Unit Lake Charles practices and procedures will remain in effect until superseded by Commander, Sector Houston-Galveston or in MSU Port Arthur Sub-Zone until superseded by Commanding Officer, Marine Safety Unit Port Arthur. This continuity of operations order addresses existing COTP regulations, orders, directives and policies.

The following information is a list of updated command titles, addresses and points of contact to facilitate requests from the public and assist with entry into security or safety zones:

Name: Sector Houston-Galveston

Address: Commander, U.S. Coast Guard Sector Houston-Galveston, 9640 Clinton Dr., Houston, TX 77029.

Contact: General Number, (713) 671-5100, Sector Commander: Captain Richard Kaser; Deputy Sector Commander: Captain Christine Balboni.

Chief, Prevention Department: (713) 671-5184, Chief, Response Department: (713) 671-5104, Chief, Logistics Department: (713) 671-5150.

MSU Port Arthur General Number, (409) 723-6500.

MSU Lake Charles General Number, (337) 491-7840.

MSU Galveston General Number, (409) 766-5400.

Dated: November 30, 2005.
Kevin L. Marshall,
Captain, U.S. Coast Guard, Commander, 8th Coast Guard District, Acting.

[FR Doc. E5-7509 Filed 12-16-05; 8:45 am]

BILLING CODE 4910-15-P